ENVIRONMENTAL PROTECTION AGENCY

[EPA-HQ-OAR-2007-1196; FRL-10004-28-OAR]

Recent Postings of Broadly Applicable Alternative Test Methods

AGENCY: Environmental Protection Agency (EPA).

ACTION: Notice of availability.

SUMMARY: This document announces the broadly applicable alternative test method approval decisions that the Environmental Protection Agency (EPA) made under and in support of New Source Performance Standards (NSPS) and the National Emission Standards for Hazardous Air Pollutants (NESHAP) between January 1, 2019, and December 31, 2019.

FOR FURTHER INFORMATION CONTACT: An electronic copy of each alternative test method approval document is available at https://www.epa.gov/emc/broadly-applicable-approved-alternative-test-methods. For questions about this document, contact Mrs. Lula H. Melton, Air Quality Assessment Division, Office of Air Quality Planning and Standards (E143-02), Environmental Protection Agency, Research Triangle Park, NC 27711; telephone number: (919) 541-2910; fax number: (919) 541-0516; email address: melton.lula@epa.gov. For technical questions about individual alternative test method decisions, refer to the contact person identified in the individual approval document(s).

SUPPLEMENTARY INFORMATION:

I. General Information

A. Does this document apply to me?

This document will be of interest to entities regulated under 40 Code of Federal Regulations (CFR) parts 60, 61, and 63; state, local, and tribal agencies; and the EPA Regional offices responsible for implementation and enforcement of regulations under 40 CFR parts 60, 61, and 63.

B. How can I get copies of this information?

You may access copies of the broadly applicable alternative test method approval documents at https://www.epa.gov/emc/broadly-applicable-approved-alternative-test-methods.

II. Background

This document identifies broadly applicable alternative test method approval decisions made by the EPA in 2019 under the New Source Performance Standards (NSPS), 40 CFR part 60 and National Emission Standards for Hazardous Air Pollutants (NESHAP) programs, 40 CFR parts 61 and 63; see Table 1. Source owners and operators may voluntarily use these broadly applicable alternative test methods in lieu of otherwise specified reference test methods. Use of these broadly applicable alternative test methods are not intended to and should not change the applicable emission standards.

The Administrator has the authority to approve the use of alternative test methods for compliance with requirements under 40 CFR parts 60, 61, and 63. This authority is found in 40 CFR 60.8(b)(3), 61.13(h)(1)(ii), and 63.7(e)(2)(ii). Additional and similar authority can be found in 40 CFR 65.158(a)(2). The criteria for approval and procedures for submission and review of broadly applicable alternative test methods are explained in a previous Federal Register document published at 72 FR 4257 (January 30, 2007) and located at https://www.epa.gov/emc/broadly-applicable-approved-alternative-test-methods. As explained in this document, we will announce approvals for broadly applicable alternative test methods at https://www.epa.gov/emc/broadly-applicable-approved-alternative-test-methods and publish an annual document that summarizes approvals for broadly applicable alternative test methods during the preceding year.

As also explained in the January 30, 2007 document, our approval decisions involve thorough technical reviews of numerous source-specific requests for alternatives and modifications to test methods and procedures. Based on these reviews, we have often found that these modifications or alternatives would be equally valid and appropriate to apply to other sources within a particular class, category, or subcategory. Consequently, we have concluded that where a method modification or an alternative method is clearly broadly applicable to a class, category, or subcategory of sources, it is both equitable and efficient to approve its use for all appropriate sources and situations at the same time.

Use of approved alternative test methods are not mandatory but rather permissive. Sources are not required to employ such a method but may choose to do so in appropriate circumstances. As specified in 40 CFR 63.7(f)(5), however, a source owner or operator electing to use an alternative method for 40 CFR part 63 standards must continue to use the alternative method until otherwise authorized. Source owners or operators should, therefore, review the specific broadly applicable alternative method approval decision at https://www.epa.gov/emc/broadly-applicable-approved-alternative-test-methods before electing to employ any alternative method.

III. Approved Alternative Test Methods and Modifications to Test Methods

This document specifies three broadly applicable alternative test methods that the EPA approved between January 1, 2019, and December 31, 2019. The alternative method decision letter/memo number, the reference method affected, sources allowed to use this alternative, and the modification or alternative method allowed are summarized in Table 1 of this document. A summary of approval documents was previously made available on our Technology Transfer Network between January 1, 2019, and December 31, 2019. For more detailed information, please refer to the complete copies of these approval documents available at https://www.epa.gov/emc/broadly-applicable-approved-alternative-test-methods.

As also explained in our January 30, 2007 document, we will revisit approvals of alternative test methods in response to written requests or objections indicating that a particular approved alternative test method either should not be broadly applicable or that its use should be limited in some way. Any objection to a broadly applicable alternative test method, as well as the resolution of that objection, will be announced at https://www.epa.gov/emc/broadly-applicable-approved-alternative-test-methods and in a subsequent Federal Register document. If we decide to retract a broadly applicable test method, we will likely consider the need for an appropriate transition period for users either to request case-by-case approval or to transition to an approved method.

Dated: January 6, 2020.
Richard A. Wayland,
Director, Air Quality Assessment Division.

Table 1—Approved Alternative Test Methods and Modifications to Test Methods Referenced in or Published Under Appendices in 40 CFR Parts 60, 61, and 63 Posted Between January 2019 and December 2019
Alternative method decision letter/memo number | As an alternative or modification to . . . | For . . . | You may . . .
ALT-133 | Methods 6, 8, 15A, and 16A | Sources subject to 40 CFR part 60 federal rules that require sample analysis using methods 6, 8, 15A, or 16A | Use procedures specified in SW-846 Method 9056A and the conditions specified in the Agency's approval letter dated August 5, 2019.
ALT-134 | Method 28 WHH-Measurement of Particulate Emissions and Heating Efficiency of Wood-Fired Hydronic Heating Appliances | Sources subject to 40 CFR part 60, subpart QQQQ-Standards of Performance for New Residential Hydronic Heaters and Forced Air Furnaces | Use alternative certification testing procedures in the Canadian Standards Association (CSA) B415.1-10 test method with the caveats stipulated in the Agency's approval letter dated August 19, 2019.
ALT-135 | Method 23-Determination of Polychlorinated Dibenzo-P-Dioxins and Polychlorinated Dibenzofurans from Stationary Sources | Sources subject to 40 CFR part 63, subpart X-National Emission Standards for Hazardous Air Pollutants from Secondary Lead Smelting | Use toluene in lieu of methylene chloride for field recovery rinses for Method 23 sampling trains with the provisos specified in the Agency's approval letter dated September 25, 2019.

Source owners or operators should review the specific broadly applicable alternative method approval letter at https://www.epa.gov/emc/broadly-applicable-approved-alternative-test-methods before electing to employ it.

[FR Doc. 2020-01576 Filed 1-28-20; 8:45 am]

BILLING CODE 6560-50-P